DEPARTMENT OF DEFENSE

Office of the Secretary

[Docket ID DoD-2013-OS-0137]

Privacy Act of 1974; System of Records

AGENCY: National Geospatial-Intelligence Agency, DoD.

ACTION: Notice to delete seven Systems of Records.

SUMMARY: The National Geospatial-Intelligence Agency is deleting seven systems of records notices in its existing inventory of record systems subject to the Privacy Act of 1974 (5 U.S.C. 552a), as amended. B0502-03, B1211-03, B0502-15, B0303-5, B0614-01, B0504-01-2, and B0503-02 are being deleted for the reasons set forth in this notice.

DATES: This proposed action will be effective on August 22, 2013 unless comments are received which result in a contrary determination. Comments will be accepted on or before August 21, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: NGA Privacy Office, National Geospatial-Intelligence Agency, 7500 GEOINT Drive, Springfield, VA 22150.

SUPPLEMENTARY INFORMATION: The National Geospatial-Intelligence Agency systems of records notices subject to the Privacy Act of 1974 (5 U.S.C. 552a), as amended, have been published in the Federal Register and are available from the address in FOR FURTHER INFORMATION CONTACT or at the Defense Privacy and Civil Liberties Office at http://dpclo.defense.gov/privacy/SORNs/component/ngia/index.html.

The proposed deletions are not within the purview of subsection (r) of the Privacy Act of 1974 (5 U.S.C. 552a), as amended, which requires the submission of a new or altered system report.

Dated: July 16, 2013.
Aaron Siegel,
Alternate OSD Federal Register Liaison Officer, Department of Defense.

Deletions:

B0502-03, Master Billet/Access Records (March 19, 2002, 67 FR 12532).

Reason:

This system was originally established to identify and verify personnel authorized access to SCI in order to control access to secure areas for use of classified information, for periodic re-indoctrination (re-briefing) of employees for SCI access, for periodic security education and training, and for control and reissue of identification badges. Because the stand-alone system no longer exists, records in that system are now covered under NGA-003, National Geospatial-Intelligence Agency Enterprise Workforce System (May 24, 2013, 78 FR 31526); therefore, B0502-03, Master Billet/Access Records can be deleted.

B1211-03, Passport and Visa Files (January 18, 2002, 67 FR 2639).

Reason:

This system was originally established to issue passports and visas to agency personnel and their dependents for official government travel and to obtain necessary visas from appropriate embassies. Because the stand-alone system no longer exists, records in that system are now covered under NGA-003, National Geospatial-Intelligence Agency Enterprise Workforce System (May 24, 2013, 78 FR 31526); therefore, B1211-03, Passport and Visa Files can be deleted.

B0502-15, Security Compromise Case Files (March 19, 2002, 67 FR 12532).

Reason:

This system was originally established to protect records relating to investigations conducted into alleged and/or actual security violations by Security Office personnel and appointed investigating officials. Because the stand-alone system no longer exists, records in that system are now covered under NGA-003, National Geospatial-Intelligence Agency Enterprise Workforce System (May 24, 2013, 78 FR 31526); therefore, B0502-15, Security Compromise Case Files can be deleted.

B0303-5, Leave Record Files (February 22, 1993, 58 FR 10189).

Reason:

This system was originally established to record official annual accumulation and use of employees' leave. Because the stand-alone system no longer exists, the records are now covered under NGA-003, National Geospatial-Intelligence Agency Enterprise Workforce System (May 24, 2013, 78 FR 31526); therefore, B0303-5, Leave Record Files can be deleted.

B0614-01, Military Personnel Information Files (March 19, 2002, 67 FR 12532).

Reason:

This system was originally established to determine the acceptability of an individual nominated by the parent service for an agency position, to be used in the preparation of efficiency/fitness/effectiveness reports, award recommendations, and other personnel actions. Because the stand-alone system no longer exists, records in that system are now covered under NGA-003, National Geospatial-Intelligence Agency Enterprise Workforce System (May 24, 2013, 78 FR 31526); therefore, B0614-01, Military Personnel Information Files can be deleted.

B0504-01-2, Personnel Security and Suitability Files (December 2, 1994, 59 FR 61885).

Reason:

This system was originally established to maintain up-to-date personnel security and suitability information for civilians, military and applicant personnel who require access to classified information, to determine and ensure continued eligibility for access to classified information. Because the overall purpose of the system has changed, records in that system are now covered under NGA-003, National Geospatial-Intelligence Agency Enterprise Workforce System (May 24, 2013, 78 FR 31526); therefore, B0504-01-2, Personnel Security and Suitability Files can be deleted.

B0503-02, Security Identification Accountability Files (March 19, 2002, 67 FR 12532).

Reason:

This system was originally established to maintain accountability for various identification cards/badges issues and identify to whom issued. Because the stand-alone system no longer exists, records in that system are now covered under NGA-003, National Geospatial-Intelligence Agency Enterprise Workforce System (May 24, 2013, 78 FR 31526); therefore, B0503-02, Security Identification Accountability Files can be deleted.

[FR Doc. 2013-17457 Filed 7-19-13; 8:45 am]

BILLING CODE 5001-06-P